DEPARTMENT OF COMMERCE

National Oceanic and Atmospheric Administration

RIN 0648-XC652

Pacific Fishery Management Council; Public Meeting

AGENCY: National Marine Fisheries Service (NMFS), National Oceanic and Atmospheric Administration (NOAA), Commerce.

ACTION: Notice, public meeting.

SUMMARY: The Pacific Fishery Management Council (Pacific Council) will convene a meeting of its Coastal Pelagic Species Management Team (CPSMT) and the Coastal Pelagic Species Subcommittee of the Scientific and Statistical Committee (SSC). One representative of the Council's Coastal Pelagic Species Advisory Subpanel (CPSAS) will also attend. The purpose is to consider the possibility of using a different temperature index than is currently used, for the purposes of estimating Pacific sardine recruitment. Meeting participants will also discuss and consider an implementation plan for changing the start date of the Pacific sardine fishery, from January 1 toJuly 1.

DATES: The meeting will be held May 21-23, 2013.

ADDRESSES: Meeting address: The meeting will be held in the Large Conference Room of the National Oceanic and Atmospheric Administration's (NOAA) Southwest Fisheries Science Center, at 8901 La Jolla Shores Dr., La Jolla, CA 92037-1508.

Council Address: Pacific Fishery Management Council, 7700 NE Ambassador Place, Suite 101, Portland, OR 97220.

FOR FURTHER INFORMATION CONTACT: Kerry Griffin, Staff Officer; telephone: (503) 820-2280.

SUPPLEMENTARY INFORMATION: The Council considered the issues of a new temperature index and a different fishery start date at its April 2013 meeting, and asked the CPSMT and SSC CPS subcommittee to report back at the June 2013 Council meeting for final action.

Although non-emergency issues not contained in this agenda may come before this group for discussion, those issues may not be the subject of formal action during this meeting. Action will be restricted to those issues specifically listed in this notice and any issues arising after publication of this notice that require emergency action under Section 305(c) of the Magnuson-Stevens Fishery Conservation and Management Act, provided the public has been notified of the CPSMT's intent to take final action to address the emergency.

Special Accommodations

This listening station is physically accessible to people with disabilities. Requests for sign language interpretation or other auxiliary aids should be directed to Mr. Dale Sweetnam, (858) 546-7170, at least 5 days prior to the meeting date.

Dated: April 30, 2013.
Tracey L. Thompson,
Acting Deputy Director, Office of Sustainable Fisheries, National Marine Fisheries Service.

[FR Doc. 2013-10517 Filed 5-2-13; 8:45 am]

BILLING CODE 3510-22-P